DEPARTMENT OF THE INTERIOR

Bureau of Land Management

[CO 130 2009 001]

Notice of Intent To Prepare a Resource Management Plan (RMP) and Associated Environmental Impact Statement (EIS) and Initiate the Public Scoping Process

AGENCY: Bureau of Land Management, Interior.

ACTION: Notice of intent.

SUMMARY: Notice is hereby given that the Bureau of Land Management (BLM), Grand Junction Field Office (GJFO), Colorado, is initiating a planning effort to prepare the Grand Junction RMP and associated EIS. The RMP will replace the existing 1987 Resource Management Plan.

DATES: The scoping comment period will commence with the publication of this notice and will end on January 9, 2009. However, collaboration with the public will continue throughout the planning process. Public meetings will be announced through the local news media, newsletters, and a BLM Web site at least 15 days prior to the event. Comments on issues and planning criteria should be received on or before the end of the scoping period at the address listed below.

ADDRESSES: Written comments should be sent to the Grand Junction Field Office, Bureau of Land Management, 2815 H Road, Grand Junction, CO 81506 or via fax at (970) 244-3083. E-mail comments may be set to GJFO_mail@blm.gov. Comments, including names and addresses of respondents, will be available for public review at the BLM GJFO, during regular business hours 7:30 a.m.-4:30 p.m., Monday-Friday, except holidays. Individual respondents may request confidentiality. Before including your address, phone number, e-mail address, or other personal identifying information in your comment, you should be aware that your entire comment—including your personal identifying information—may be made publicly available at any time. While you can ask us in your comment to withhold your personal identifying information from public review, we cannot guarantee that we will be able to do so. All submissions from organizations and businesses, and from individuals identifying themselves as representatives or officials of organizations or businesses, will be available for public inspection in their entirety.

FOR FURTHER INFORMATION CONTACT: For further information and/or to have your name added to our mailing list; contact Matt Anderson, Project Manager, Telephone (970) 244-3027. Project documents may be reviewed on BLM's Grand Junction's Field Office Web site at http://www.blm.gov (select Grand Junction on the interactive map).

SUPPLEMENTARY INFORMATION: The purpose of the public scoping process is to identify issues that should be considered in the RMP/EIS and to initiate public participation in the planning process. BLM personnel will also be present at scoping meetings to explain the planning process and other requirements for preparing the RMP/EIS. The planning area includes lands within the BLM GJFO administrative boundary. The GJFO RMP decision area encompasses about 1.2 million acres of public lands, which are located within Mesa, Garfield, Montrose, and Delta Counties, Colorado. The decision area includes public lands administered by the BLM GJFO, and does not include private lands, state lands, tribal trust lands, federal lands not administered by the BLM, lands located within the planning area of the RMP for the McInnis Canyons National Conservation Area and associated Wilderness Area.

The plan will fulfill the needs and obligations set forth by the National Environmental Policy Act (NEPA) and associated Council of Environmental Quality Regulations 40 CFR part 1500. The plan also fulfills requirements of the Federal Land Policy and Management Act (FLPMA: 43 U.S.C. 1711), applicable planning regulations at 43 CFR part 1600, and BLM management policies.

Parties interested in leasing and development of Federal coal in the planning area should provide coal resource data for their area(s) of interest. Specifically, information is requested on the location, quality, and quantity of Federal coal with development potential, and on surface resource values related to the 20 coal unsuitability criteria described in 43 CFR part 3461. This information will be used for any necessary updating of coal screening determination (43 CFR 3420.1-4) in the area and in the environmental analysis. In addition to coal resource data, the BLM seeks resource information and data for other public land values (e.g., air quality, cultural and historic resources, fire/fuels, fisheries, forestry, lands and realty, non-energy minerals and geology, oil and gas (including coalbed methane), paleontology, rangeland management, recreation, soil, water, and wildlife) in the planning area. The purpose of this request is to assure that the planning effort has sufficient information and data to consider a reasonable range of resource uses, management options, and alternatives for the public lands.

Proprietary data marked as confidential may be submitted in response to this call for coal and other resource information. Please submit all proprietary information submissions to the address listed above. The BLM will treat submissions marked as “Confidential” in accordance with the laws and regulations governing the confidentiality of such information.

The BLM GJFO will work collaboratively with interested parties to identify the management actions and decisions that are best suited to local, regional, and national needs and concerns of the public, subject to planning criteria to be developed to guide the plan. Preliminary issues and management concerns have been identified by the BLM, other agencies, and meetings with individuals and user groups. The major issue themes to be addressed in the RMP effort include:

• Management and protection of public land resources while allowing for multiple uses.

• Management of riparian areas and water quality concerns.

• Recreation/visitor use and safety management.

• Travel management, including Off Highway Vehicle.

• Management of areas with special values.

• Energy and minerals management.

• Management of wildlife habitat including protection of sensitive species habitat.

• Community expansion and urban interface.

• Land Tenure Adjustments.

After gathering public comments, issues will be placed in one of three categories.

1. Issues to be resolved by the plan;

2. Issues resolved through policy or administrative action; or

3. Issues beyond the scope of this plan.

Rationale will be provided in the plan for each issue placed in category two or three. In addition to these major issues, a number of management questions and concerns will be addressed in the plan. The public is encouraged to help identify these questions and concerns during the scoping phase. An interdisciplinary approach will be used to develop the plan in order to consider the variety of issues and concerns identified. Disciplines involved in the planning process will include specialists with expertise in rangeland management, minerals and geology, outdoor recreation, archaeology, paleontology, wildlife, fisheries, wild horse, weeds, lands and realty, hydrology, soils, engineering, fire, wilderness, hazardous materials, and social and economic. The BLM has identified some preliminary planning criteria to guide the development of the plan. The following planning criteria have been proposed to guide the development of the plan, to avoid unnecessary data collection and analyses, and to ensure the plan is tailored to issues. Other criteria may be identified during the public scoping process. Proposed planning criteria include the following:

• The plan will comply with all applicable laws, regulations and current policies.

• Broad-based public participation will be an integral part of the planning and EIS process.

• The plan will recognize valid existing rights.

• Areas with special designations as appropriate.

Dated: October, 2008.
Raul Morales,
Associate Field Manager, Grand Junction Field Office.

[FR Doc. E8-24374 Filed 10-14-08; 8:45 am]

BILLING CODE 4310-22-P